CONSUMER PRODUCT SAFETY COMMISSION

Sunshine Act Meetings

Federal Register Citation of Previous Announcement: Vol. 76, No. 142, Monday July 25, 2011, page 44307.

ANNOUNCED TIME AND DATE OF OPEN MEETING: 10 a.m.-12 p.m., Wednesday, July 27, 2011.

CHANGES TO OPEN MEETING: REVISED AGENDA: Matters to be Considered: (1) Decisional Matters: (a) Phthalates notice of requirements; (b) 100ppm lead enforcement statement; (2) Briefing Matter: Virginia Graeme Baker Pool and Spa Safety Act; Incorporation by reference of ANSI successor standard.

For a recorded message containing the latest agenda information, call (301) 504-7948.

CONTACT PERSON FOR ADDITIONAL INFORMATION: Todd A. Stevenson, Office of the Secretary, 4330 East West Highway, Bethesda, MD 20814, (301) 504-7923.

Dated: July 26, 2011.
Todd A. Stevenson,
Secretary.

[FR Doc. 2011-19232 Filed 7-26-11; 4:15 pm]

BILLING CODE 6355-01-P